SUSQUEHANNA RIVER BASIN COMMISSION

Projects Approved for Consumptive Uses of Water

AGENCY: Susquehanna River Basin Commission.

ACTION: Notice.

SUMMARY: This notice lists Approvals by Rule for consumptive use projects by the Susquehanna River Basin Commission during the period set forth in DATES.

DATES: April 1-30, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22(e) and (f) for the time period specified above.

Approvals By Rule—Issued Under 18 CFR 806.22(e)

1. Hunlock Energy, LLC; Hunlock Creek Unit—4; ABR-202504001; Hunlock Township, Luzerne County, Pa.; Consumptive Use of Up to 0.1260 mgd; Approval Date: April 3, 2025.

Approvals By Rule—Issued Under 18 CFR 806.22(f)

1. RENEWAL—Blackhill Energy LLC; Pad ID: GUINAN 2H; ABR-20091117.R3; Springfield Township, Bradford County, Pa.; Consumptive Use of Up to 1.9990 mgd; Approval Date: April 17, 2025.

2. RENEWAL—Blackhill Energy LLC; Pad ID: HARKNESS 3H; ABR-20091221.R3; Springfield Township, Bradford County, Pa.; Consumptive Use of Up to 1.9990 mgd; Approval Date: April 17, 2025.

3. RENEWAL—Blackhill Energy LLC; Pad ID: HOPPAUGH 2H; ABR-20091120.R3; Springfield Township, Bradford County, Pa.; Consumptive Use of Up to 1.9990 mgd; Approval Date: April 17, 2025.

4. RENEWAL—Coterra Energy Inc.; Pad ID: LaRueC P2; ABR-20100138.R3; Dimock Township, Susquehanna County, Pa.; Consumptive Use of Up to 5.0000 mgd; Approval Date: April 17, 2025.

5. RENEWAL—Expand Operating LLC; Pad ID: Blye Pad Site; ABR-20100204.R3; Middletown Township, Susquehanna County, Pa.; Consumptive Use of Up to 7.5000 mgd; Approval Date: April 17, 2025.

6. RENEWAL—Expand Operating LLC; Pad ID: Clear Springs Dairy Drilling Pad #1; ABR-20091214.R3; Burlington Township, Bradford County, Pa.; Consumptive Use of Up to 7.5000 mgd; Approval Date: April 17, 2025.

7. RENEWAL—Expand Operating LLC; Pad ID: Ferguson; ABR-20100201.R3; Herrick Township, Bradford County, Pa.; Consumptive Use of Up to 7.5000 mgd; Approval Date: April 17, 2025.

8. RENEWAL—Expand Operating LLC; Pad ID: Readinger; ABR-20091210.R3; West Burlington Township, Bradford County, Pa.; Consumptive Use of Up to 7.5000 mgd; Approval Date: April 17, 2025.

9. RENEWAL—Expand Operating LLC; Pad ID: SGL-12 HARDY EAST UNIT PAD; ABR-202003001.R1; Overton Township, Bradford County, Pa.; Consumptive Use of Up to 7.5000 mgd; Approval Date: April 17, 2025.

10. RENEWAL—Formentera Operations LLC; Pad ID: Hannan Well Site; ABR-201412010.R2; Hepburn Township, Lycoming County, Pa.; Consumptive Use of Up to 4.0000 mgd; Approval Date: April 17, 2025.

11. RENEWAL—Range Resources—Appalachia, LLC; Pad ID: Gentner 3; ABR-20100153.R3; Cummings Township, Lycoming County, Pa.; Consumptive Use of Up to 4.0000 mgd; Approval Date: April 17, 2025.

12. RENEWAL—Range Resources—Appalachia, LLC; Pad ID: Laurel Hill 1; ABR-20100154.R3; Jackson Township, Lycoming County, Pa.; Consumptive Use of Up to 4.0000 mgd; Approval Date: April 17, 2025.

13. RENEWAL—S.T.L. Resources, LLC; Pad ID: Button B 901 Pad; ABR-20091234.R3; West Branch Township, Potter County, Pa.; Consumptive Use of Up to 4.9900 mgd; Approval Date: April 17, 2025.

14. RENEWAL—S.T.L. Resources, LLC; Pad ID: Ken-Ton 902; ABR-20100102.R3; West Branch Township, Potter County, Pa.; Consumptive Use of Up to 4.9900 mgd; Approval Date: April 17, 2025.

15. RENEWAL—S.T.L. Resources, LLC; Pad ID: Lick Run Pad; ABR-20091232.R3; Gaines Township, Tioga County, Pa.; Consumptive Use of Up to 4.9900 mgd; Approval Date: April 17, 2025.

16. RENEWAL—S.T.L. Resources, LLC; Pad ID: Marshlands K. Thomas Unit #1; ABR-20091231.R3; Elk Township, Tioga County, Pa.; Consumptive Use of Up to 4.9900 mgd; Approval Date: April 17, 2025.

17. RENEWAL—S.T.L. Resources, LLC; Pad ID: Mitchell A 903; ABR-20100152.R3; West Branch Township, Potter County, Pa.; Consumptive Use of Up to 4.9900 mgd; Approval Date: April 17, 2025.

18. RENEWAL—Seneca Resources Company, LLC; Pad ID: Thomas 503R; ABR-201408007.R2; Sullivan Township, Tioga County, Pa.; Consumptive Use of Up to 4.0000 mgd; Approval Date: April 17, 2025.

19. RENEWAL—Seneca Resources Company, LLC; Pad ID: York 480-5H; ABR-20100106.R3; Sullivan Township, Tioga County, Pa.; Consumptive Use of Up to 4.0000 mgd; Approval Date: April 17, 2025.

20. RENEWAL—Coterra Energy Inc.; Pad ID: AustinE P1; ABR-202003004.R1; Lenox Township, Susquehanna County, Pa.; Consumptive Use of Up to 5.0000 mgd; Approval Date: April 26, 2025.

21. RENEWAL—Expand Operating LLC; Pad ID: Acla; ABR-20100324.R3; Terry Township, Bradford County, Pa.; Consumptive Use of Up to 7.5000 mgd; Approval Date: April 26, 2025.

22. RENEWAL—Expand Operating LLC; Pad ID: Claude; ABR-20100319.R3; Auburn Township, Susquehanna County, Pa.; Consumptive Use of Up to 7.5000 mgd; Approval Date: April 26, 2025.

23. RENEWAL—Expand Operating LLC; Pad ID: Coyote Run; ABR-202004002.R1; Tuscarora Township, Bradford County, Pa.; Consumptive Use of Up to 7.5000 mgd; Approval Date: April 26, 2025.

24. RENEWAL—Expand Operating LLC; Pad ID: Engelke; ABR-20100323.R3; Troy Township, Bradford County, Pa.; Consumptive Use of Up to 7.5000 mgd; Approval Date: April 26, 2025.

25. RENEWAL—Expand Operating LLC; Pad ID: Stone Drilling Pad #1; ABR-20100228.R3; Springville Township, Susquehanna County, Pa.; Consumptive Use of Up to 7.5000 mgd; Approval Date: April 26, 2025.

26. RENEWAL—Expand Operating LLC; Pad ID: Updike; ABR-20100305.R3; West Burlington Township, Bradford County, Pa.; Consumptive Use of Up to 7.5000 mgd; Approval Date: April 26, 2025.

27. RENEWAL—Expand Operating LLC; Pad ID: Yengo; ABR-20100206.R3; Cherry Township, Sullivan County, Pa.; Consumptive Use of Up to 7.5000 mgd; Approval Date: April 26, 2025.

28. RENEWAL—Formentera Operations LLC; Pad ID: Winter Well Site; ABR-201410009.R2; Eldred Township, Lycoming County, Pa.; Consumptive Use of Up to 4.0000 mgd; Approval Date: April 26, 2025.

29. RENEWAL—LPR Energy, LLC ; Pad ID: Ritchey Unit Drilling Pad; ABR-20091010.R3; Juniata Township, Blair County, Pa.; Consumptive Use of Up to 1.9900 mgd; Approval Date: April 26, 2025.

30. RENEWAL—Repsol Oil & Gas USA, LLC; Pad ID: BARRETT (03 009) L; ABR-20100230.R3; Columbia Township, Bradford County, Pa.; Consumptive Use of Up to 6.0000 mgd; Approval Date: April 26, 2025.

31. RENEWAL—Repsol Oil & Gas USA, LLC; Pad ID: DCNR 587 (02 018); ABR-20100219.R3; Ward Township, Tioga County, Pa.; Consumptive Use of Up to 6.0000 mgd; Approval Date: April 26, 2025.

32. RENEWAL—Repsol Oil & Gas USA, LLC; Pad ID: HARVEST HOLDINGS (01 036); ABR-20100225.R3; Canton Township, Bradford County, Pa.; Consumptive Use of Up to 6.0000 mgd; Approval Date: April 26, 2025.

33. RENEWAL—Repsol Oil & Gas USA, LLC; Pad ID: LUTZ (01 015); ABR-20100213.R3; Troy Township, Bradford County, Pa.; Consumptive Use of Up to 6.0000 mgd; Approval Date: April 26, 2025.

34. RENEWAL—Repsol Oil & Gas USA, LLC; Pad ID: PUTNAM (01 076) L; ABR-20100233.R3; Armenia Township, Bradford County, Pa.; Consumptive Use of Up to 6.0000 mgd; Approval Date: April 26, 2025.

35. RENEWAL—Repsol Oil & Gas USA, LLC; Pad ID: PUTNAM (01 077) L; ABR-20100212.R3; Armenia Township, Bradford County, Pa.; Consumptive Use of Up to 6.0000 mgd; Approval Date: April 26, 2025.

36. RENEWAL—S.T.L. Resources, LLC; Pad ID: T Pierson Pad; ABR-20090903.R3; Gaines Township, Tioga County, Pa.; Consumptive Use of Up to 4.0000 mgd; Approval Date: April 26, 2025.

37. RENEWAL—Seneca Resources Company, LLC; Pad ID: DCNR 595 Pad E; ABR-20100307.R3; Blossburg Borough, Tioga County, Pa.; Consumptive Use of Up to 4.0000 mgd; Approval Date: April 26, 2025.

38. RENEWAL—Seneca Resources Company, LLC; Pad ID: Johnson 435; ABR-20091102.R3; Shippen Township, Tioga County, Pa.; Consumptive Use of Up to 4.0000 mgd; Approval Date: April 26, 2025.

39. RENEWAL—Expand Operating LLC; Pad ID: Kupscznk Drilling Pad #1; ABR-20100224.R3; Springville Township, Susquehanna County, Pa.; Consumptive Use of Up to 7.5000 mgd; Approval Date: April 28, 2025.

40. RENEWAL—Expand Operating LLC; Pad ID: LaRue 1A; ABR-202004003.R1; Rush Township, Susquehanna County, Pa.; Consumptive Use of Up to 7.5000 mgd; Approval Date: April 28, 2025.

41. RENEWAL—Expand Operating LLC; Pad ID: LaRue 1B; ABR-202004004.R1; Rush Township, Susquehanna County, Pa.; Consumptive Use of Up to 7.5000 mgd; Approval Date: April 28, 2025.

42. RENEWAL—Expand Operating LLC; Pad ID: Masso; ABR-20100216.R3; Auburn Township, Susquehanna County, Pa.; Consumptive Use of Up to 7.5000 mgd; Approval Date: April 28, 2025.

43. RENEWAL—Expand Operating LLC; Pad ID: Plymouth; ABR-20100341.R3; Terry Township, Bradford County, Pa.; Consumptive Use of Up to 7.5000 mgd; Approval Date: April 28, 2025.

44. RENEWAL—Expand Operating LLC; Pad ID: Sivers; ABR-20100320.R3; Tuscarora Township, Bradford County, Pa.; Consumptive Use of Up to 7.5000 mgd; Approval Date: April 28, 2025.

45. RENEWAL—Expand Operating LLC; Pad ID: Hoffman; ABR-20100328.R3; Towanda Township, Bradford County, Pa.; Consumptive Use of Up to 7.5000 mgd; Approval Date: April 29, 2025.

Authority: Public Law 91-575, 84 Stat. 1509 et seq., 18 CFR parts 806 and 808.

Dated: May 15, 2025.
Jason E. Oyler,
General Counsel and Secretary to the Commission.

[FR Doc. 2025-08965 Filed 5-19-25; 8:45 am]

BILLING CODE 7040-01-P